DEPARTMENT OF THE TREASURY

Submission for OMB Review; Comment Request

March 9, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 16, 2007 to be assured of consideration.

Internal Revenue Service (IRS)

OMB Number: 1545-1865.

Type of Review: Extension.

Title: Notice 2003-75, Registered Retirement Savings Plans (RRSP) and Registered Income Funds (RRIF) Information Reporting.

Description: This notice announces an alternative, simplified reporting regime for the owners of certain Canadian Individual retirement plans that have been subject to reporting on Forms 3520 and 3520-A, and it describes the interim reporting rules that taxpayers must follow until a new form is available.

Respondents: Individuals or households.

Estimated Total Burden Hours: 1,500,000 hours.

OMB Number: 1545-1555.

Type of Review: Extension.

Title: REG-115795-97 (Final) General Rules for Making and Maintaining Qualified Electing Fund Elections.

Description: The regulations provide rules for making section 1295 elections and satisfying annual reporting requirements for such elections, revoking section 1295 elections, and making retroactive section 1295 elections.

Respondents: Businesses and other for-profit institutions.

Estimated Total Burden Hours: 623 hours.

OMB Number: 1545-1868.

Type of Review: Extension.

Title: REG-116664-01 (NPRM and Temporary) Guidance To Facilitate Business Electronic Filing.

Description: These regulations remove certain impediments to the electronic filing of business tax returns and other forms. The regulations reduce the number of instances in which taxpayers must attach supporting documents to their tax returns. The regulations also expand slightly the required content of a statement certain taxpayers must submit with their returns to justify deductions for charitable contributions.

Respondents: Businesses and other for-profit institutions.

Estimated Total Burden Hours: 250,000 hours.

OMB Number: 1545-0145.

Type of Review: Extension.

Title: Notice to Shareholder of Undistributed Long-Term Capital Gains.

Form: 2439.

Description: Form 2439 is sent by regulated investment companies and real estate investment trusts to report undistributed capital gains and the amount of tax paid on these gains designated under IRC section 852(b)(3)(D) or 857(b)(3)(D). The company, the trust, and the shareholder file copies of Form 2439 with IRS. IRS uses the information to check shareholder compliance.

Respondents: Businesses and other for-profit institutions.

Estimated Total Burden Hours: 29,995 hours.

OMB Number: 1545-1379.

Type of Review: Extension.

Title: Excise Taxes on Excess Inclusions of REMIC Residual Interests.

Form: 8831.

Description: Form 8831 is used by a real estate mortgage investment conduit (REMIC) to figure its excise tax liability under Code sections 860E(e)(1), 860E(e)(6), and 860E(e)(7). IRS uses the information to determine the correct tax liability of the REMIC.

Respondents: Businesses or other for-profit institutions.

Estimated Total Burden Hours: 237 hours.

OMB Number: 1545-0045.

Type of Review: Extension.

Title: Claim for Deficiency Dividends Deductions by a Personal Holding Company, Regulated Investment Company, or Real Estate Investment Trust.

Form: 976.

Description: Form 976 is filed by corporations that wish to claim a deficiency dividend deduction. The deduction allows the corporation to eliminate all or a portion of a tax deficiency. The IRS uses Form 976 to determine if shareholders have included amounts in gross income.

Respondents: Businesses and other for-profit institutions.

Estimated Total Burden Hours: 3,830 hours.

OMB Number: 1545-1813.

Type of Review: Extension.

Title: Health Coverage Tax Credit (HCTC) Advance Payments.

Form: 1099-H.

Description: Form 1099-H is used to report advance payments of health insurance premiums to qualified recipients for their use in computing the allowable health insurance credit on Form 8885.

Respondents: Businesses and other for-profit institutions.

Estimated Total Burden Hours: 33,000 hours.

OMB Number: 1545-0044.

Type of Review: Extension.

Title: Corporation Claim for Deduction for Consent Dividends.

Form: 973.

Description: Corporations file Form 973 to claim a deduction for dividends paid. If shareholders consent and IRS approves, the corporation may claim a deduction for dividends paid, which reduces the corporation's tax liability. IRS uses Form 973 to determine if shareholders have included the dividend in gross income.

Respondents: Businesses or other for-profit institutions.

Estimated Total Burden Hours: 2,210 hours.

OMB Number: 1545-0755.

Type of Review: Extension.

Title: LR-58-83 (Final) Related Group Election With Respect to Qualified Investments in Foreign Base Company Shipping Operations.

Description: The election described in the attached justification converted an annual election to an election effective until revoked. The computational information required is necessary to assure that the U.S. shareholder correctly reports any shipping income of its controlled foreign corporations which is taxable to that shareholder.

Respondents: Businesses or other for-profit institutions.

Estimated Total Burden Hours: 205 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-4781 Filed 3-14-07; 8:45 am]

BILLING CODE 4830-01-P